Proclamation 9509 of September 30, 2016

National Disability Employment Awareness Month, 2016

By the President of the United States of America

A Proclamation

Americans with disabilities are entitled to the same rights and freedoms as any other citizen—including the right to dignity and respect in the workplace. Too often in our Nation's history, individuals with disabilities have been eager to work but could not find a job, facing red tape, discrimination, or employers who assumed that disabled meant unable and refused to hire them. This month, we recognize the significant progress our country has made for those living with disabilities, and we honor the lasting contributions and diverse skills they bring to our workforce.

As a country, we must acknowledge that despite the great strides we have made in the 26 years since the passage of the Americans with Disabilities Act—a groundbreaking civil rights law aimed at eliminating discrimination and assuring equality for people with disabilities—we still have far to go to raise awareness of discriminatory obstacles that individuals with disabilities encounter in employment. Today, the labor force participation rate for Americans with disabilities is less than one-third the rate of those without a disability, and the unemployment rate is more than twice as high for individuals with disabilities. To break down more of these barriers, we must expand access to the resources and training necessary for Americans with disabilities to succeed in the workplace.

My Administration is dedicated to upholding our Nation's promise of equal opportunity for all and advancing employment for people with disabilities in every community. I am proud that the Federal Government is leading by example as a model employer, now employing more Americans with disabilities than at any time in the last 30 years. Last year, the White House hosted a Summit on Disability and Employment to share resources for employers to hire more individuals with disabilities and effective strategies for recruitment, retention, hiring, and promotion of these employees. Two years ago, through updates to Section 503 of the Rehabilitation Act, we took action to increase the representation of workers with disabilities in the Federal contractor workforce. In 2014, I signed the Workforce Innovation and Opportunity Act to help the Departments of Labor and Education build initiatives that advance employment opportunities for individuals with disabilities—and earlier this summer, we issued new regulations to provide greater and more inclusive career development and training opportunities for anyone facing barriers to employment.

This year's National Disability Employment Awareness Month theme focuses on the importance of inclusion, especially when it comes to business, opportunity, and innovation. When we diversify our workforce we create opportunities for growth and improvement—not just for those with disabilities, but for everyone. This month, let us continue striving to forge a future where workplaces are more inclusive and where employees are more accepted for who they are. And because we know that our country does best when everyone gets their fair shot, let us keep working to ensure no one is left behind or unable to pursue their dreams because of a disability.

NOW, THEREFORE, I, BARACK OBAMA, President of the United States of America, by virtue of the authority vested in me by the Constitution and the laws of the United States, do hereby proclaim October 2016 as National Disability Employment Awareness Month. I urge all Americans to embrace the talents and skills that individuals with disabilities bring to our workplaces and communities and to promote the right to equal employment opportunity for all people.

IN WITNESS WHEREOF, I have hereunto set my hand this thirtieth day of September, in the year of our Lord two thousand sixteen, and of the Independence of the United States of America the two hundred and forty-first.

[FR Doc. 2016-24356

Filed 10-5-16; 8:45 am]

Billing code 3295-F7-P